DEPARTMENT OF HEALTH AND HUMAN SERVICES

National Institutes of Health

Center for Scientific Review Amended; Notice of Meeting

Notice is hereby given of a change in the meeting of the Center for Scientific Review Special Emphasis Panel, October 2, 2012, 5 p.m. to October 2, 2012, 6 p.m., Hyatt Regency Bethesda, One Bethesda Metro Center, 7400 Wisconsin Avenue, Bethesda, MD 20814 which was published in the Federal Register on September 6, 2012, FR 77 54921-54922.

The meeting title has been changed to “Health Issues Across the Life Span”. The meeting is closed to the public.

Dated: September 19, 2012.
David Clary,
Program Analyst, Office of Federal Advisory Committee Policy.

[FR Doc. 2012-23622 Filed 9-25-12; 8:45 am]

BILLING CODE 4140-01-P